DEPARTMENT OF HOMELAND SECURITY

Office of Grants and Training; Assistance To Firefighters Grant Program

AGENCY: Office of Grants and Training, DHS.

ACTION: Notice of guidance.

SUMMARY: The Department of Homeland Security is publishing this Notice to provide details and guidance regarding the 2006 program year Assistance to Firefighters Grant Program. The program makes grants directly to fire departments and nonaffiliated emergency medical services organizations for the purpose of enhancing first-responders' ability to protect the health and safety of the public as well as that of first-responder personnel facing fire and fire-related hazards. As in prior years, this year's grants are awarded on a competitive basis to the applicants that best reflect the program's criteria and funding priorities and best address statutory award requirements. This Notice describes the criteria and funding priorities recommended by a panel of representatives from the Nation's fire service leadership (criteria development panel) and accepted by the Department of Homeland Security, unless otherwise noted herein. This Notice contains details regarding the guidance and competitive process descriptions that have been provided to applicants and also provides information on where and why the Department deviated from recommendations of the criteria development panel.

Authority: 15 U.S.C. 2229, 2229a.

FOR FURTHER INFORMATION CONTACT: Brian Cowan, Director, Assistance to Firefighters Program Office, Office of Grants and Training, 810 Seventh Street, NW., Washington, DC 20531

SUPPLEMENTARY INFORMATION:

Appropriations

For fiscal year 2006, Congress appropriated $539,550,000 to carry out the activities of the Assistance to Firefighters Grant Program (AFG Program).¹ The Department of Homeland Security (DHS) is authorized to spend up to $26,977,500 for administration of the AFG program (five percent of the appropriated amount). In addition, DHS has set aside no less than $26,977,500 of the funds (five percent of the appropriation) for the Fire Prevention and Safety Grants in order to make grants to, or enter into contracts or cooperative agreements with, national, State, local or community organizations or agencies, including fire departments, for the purpose of carrying out fire prevention and injury prevention programs. This leaves approximately $485,595,000 for competitive grants to fire departments and nonaffiliated Emergency Medical Service (EMS) organizations. Within the portion of funding available for competitive grants, DHS must assure that no less than three and one-half percent of the appropriation, or $18,884,250, is awarded for EMS equipment and training. However, awards to nonaffiliated emergency medical service (EMS) organizations are limited to no more than two percent of the appropriation or $10,791,000. Therefore, at least the balance of the requisite awards for EMS equipment and training must go to fire departments.

¹ All appropriated fund amounts are net of rescissions after enactment of the original appropriation.

Background

The purpose of the AFG program is to award grants directly to fire departments and nonaffiliated EMS organizations to enhance their ability to protect the health and safety of the public, as well as that of first-responder personnel, with respect to fire and fire related hazards. DHS awards the grants on a competitive basis to the applicants that best address the AFG program's priorities and provide the most compelling justification. Applicants whose requests best address the program's priorities were reviewed by a panel made up of fire service personnel. The panel reviewed the narrative and assessed the application with respect to the clarity of the project to be funded, the organization's financial need, the benefit to be derived from their project, and the extent to which the grant would enhance the applicant's daily operations and/or how the grant would positively impact the applicant's ability to protect life and property.

The AFG Program for fiscal year 2006 generally mirrors previous years' programs with only one significant change. The only significant change is in the formulation of what the program has referred to as a “regional project.” A regional project, generally, is a project undertaken by an applicant to provide services and support to a number of other regional participants, such as training for multiple mutual-aid jurisdictions. For the 2006 program year, organizations that applied as a host of a regional project were not able to include activities unrelated to the regional project, e.g., activities to address specific needs of the host applicant versus the region. Also, the host applicant was required to reflect the general characteristics of the entire represented region. The population covered by the regional project affected the amount of required local contribution to the project, i.e. the cost-share required for the project.

The 2006 program will again segregate the Fire Prevention and Safety Grant (FP&S) program from the AFG. DHS will have a separate application period devoted solely to Fire Prevention and Safety in the Fall of 2006. The AFG Web site (www.firegrantsupport.com) will provide updated information on this program.

Congress has enacted statutory limits to the amount of funding that a grantee may receive from the AFG Program in any fiscal year.² 15 U.S.C. 2229(b)(10). These limits are based on population served. A grantee that serves a jurisdiction with 500,000 people or less may not receive grant funding in excess of $1,000,000 in any fiscal year. A grantee that serves a jurisdiction with more than 500,000 but not more than 1,000,000 people may not receive grants in excess of $1,750,000 in any fiscal year. A grantee that serves a jurisdiction with more than 1,000,000 people may not receive grants in excess of $2,750,000 in any fiscal year. DHS may waive these established limits to any grantee serving a jurisdiction of 1,000,000 people or less if DHS determines that extraordinary need for assistance warrants the waiver. No grantee, under any circumstance, may receive “more than the lesser of $2,750,000 or one half of one percent of the funds appropriated under this section for a single fiscal year.” In fiscal year 2006, no grantee may receive more than $2,697,750.

² Federal Fire Protection and Control Act of 1974, Pub. L. 93-498, § 33, as added Pub. L. 106-398, § 1 [Div. A, Title XVII, § 1701(a)] 114 Stat. 1654, 1654A-360 (2000), as amended Pub. L. 107-107, Div. A, Title X, § 1061, 115 Stat. 1231 (2001); Pub. L. 108-7, Div. K, Title IV, § 421, 117 Stat. 526 (2003); Pub. L. 108-169, Title II, § 205, 117 Stat. 2040 (2003); Pub. L. 108-375, Div. C, Title XXXVI, § 3602, 118 Stat. 2195 (2004)., found at and hereafter cited as 15 U.S.C. 2229.

Grantees must share in the costs of the projects funded under this grant program. 15 U.S.C. 2229(b)(6). Fire departments and nonaffiliated EMS organizations that serve populations of less than 20,000 must match the Federal grant funds with an amount of non-Federal funds equal to five percent of the total project cost. Fire departments and nonaffiliated EMS organizations serving areas with a population between 20,000 and 50,000, inclusive, must match the Federal grant funds with an amount of non-Federal funds equal to ten percent of the total project cost. Fire departments and nonaffiliated EMS organizations that serve populations of over 50,000 must match the Federal grant funds with an amount of non-Federal funds equal to twenty percent of the total project costs. All non-Federal funds must be in cash, i.e., in-kind contributions are not eligible. No waivers of this requirement will be granted except for applicants located in Insular Areas as provided for in 48 U.S.C. 1469a.

The law imposes additional requirements on ensuring a distribution of grant funds among career departments and combination/volunteer fire departments, and among urban, suburban and rural communities. More specifically with respect to department types, DHS must ensure that all-volunteer or combination (volunteer and career personnel) fire departments receive a portion of the total grant funding that is not less than the proportion of the United States population that those departments protect. 15 U.S.C. 2229(b)(11). There is no corresponding minimum for career departments. Therefore, DHS will ensure that, for the 2006 program year, no less than 53.5 percent of the funding available for grants will be awarded to volunteer and combination departments.

DHS generally makes funding decisions using rank order resulting from the panel evaluation. However, DHS may deviate from rank order and make funding decisions based on the type of department (career, combination, or volunteer) and/or the size and character of the community the applicant serves (urban, suburban, or rural) to the extent it is required to satisfy statutory provisions.

Fire Prevention and Safety Grant Program

In addition to the grants available to fire departments in fiscal year 2006 through the competitive grant program, DHS will set aside no less than $26,977,500 of the funds available under the AFG Program to make grants to, or enter into contracts or cooperative agreements with, national, State, local or community organizations or agencies, including fire departments, for the purpose of carrying out fire prevention and injury prevention programs.

In accordance with the statutory requirement to fund fire prevention activities, support to Fire Prevention and Safety Grant activities concentrates on organizations that focus on the prevention of injuries to children from fire. In addition to this priority, DHS places an emphasis on funding innovative projects that focus on protecting children under fourteen, seniors over sixty-five, and firefighters. Because the victims of burns experience both short- and long-term physical and psychological effects, DHS places a priority on programs that focus on reducing the immediate and long-range effects of fire and burn injuries.

DHS will issue an announcement regarding pertinent details of the Fire Prevention and Safety Grant portion of this program prior to the application period. Interested parties should monitor the grant program's Web site at www.firegrantsupport.com.

Application Process

Prior to the start of the application period, DHS conducted applicant workshops across the country to inform potential applicants about the AFG program for FY2006. In addition, DHS made available an online web-based applicant tutorial, and other information for applicants to use in preparing a quality application. Applicants were advised to access the application electronically at https://portal.fema.net, or through the AFG Web site at www.firegrantsupport.com. In completing the application, an applicants provided relevant information on the applicant's characteristics, call volume, and existing capacities. Applicants answered questions about their assistance request that reflect the funding priorities (iterated below). In addition, each applicant completed a narrative addressing statutory competitive factors: Financial need, benefits/costs, and improvement to the organization's daily operations. During the application period, applicants were encouraged to contact either a toll free number or e-mail help desk with any questions. The electronic application process permitted the applicant to enter data and save the application for further use, and did not permit the submission of applications that are incomplete. Except for the narrative, the application was a “point-and-click” selection process, or required the entry of information (e.g., name & address, call volume numbers, etc.).

The application period for the AFG grants opened on March 6, 2006, and closed on April 7, 2006. During this application season, the program office received over 18,000 applications. Statistics on the type of department, type of community, and other factors can be found on the AFG Web site: http://www.firegrantsupport.com/docs/2006AFGAppStats.pdf. All applications were evaluated in the preliminary screening process to determine which applications best addressed the program's announced funding priorities. This preliminary screening was based on the applicants' answers to the activity-specific questions. Each activity within an application was scored. Applications containing multiple activities were given prorated scores based on the amount of funding requested for each activity.

The best applications as determined in the preliminary step were deemed to be in the “competitive range.” All applications in the competitive range were subject to a second level review by a technical evaluation panel made up of individuals from the fire service including, but not limited to, firefighters, fire marshals, and fire training instructors. The panelists assessed the application's merits with respect to the clarity and detail provided in the narrative about the project, the applicant's financial need, the project's purported benefit to be derived from the cost, the effectiveness of the project to enhance the health and safety of the public and fire service personnel.

Using the evaluation criteria included here, the panelists independently scored each application before them and then discussed the merits and shortcomings of the application in an effort to reconcile any major discrepancies. A consensus on the score was not required. The assigned score reflected how well the applicant clearly related the proposed project including the project's budget; demonstrated financial need; detailed a high benefit to cost ratio of the proposed activities; and demonstrated significant enhancements to the daily operation of the organization and/or how the grant would positively impact the applicant's ability to protect life and property. The panel then considered the highest scoring applications resulting from this second level of review for award.

DHS will select a sufficient number of awardees from this one application period to obligate all of the available grant funding. DHS will announce awards over several months and will notify applicants that are not to receive funding as soon as feasible. DHS will not make awards in any specified order, i.e., not by State, nor by program, nor any other characteristic.

Criteria Development Process

Each year, the grants program office conducts a criteria development meeting to develop the program's priorities for the coming year. DHS brings together a panel of fire service professionals representing the leadership of the nine major fire service organizations:

• International Association of Fire Chiefs (IAFC),

• International Association of Firefighters (IAFF),

• National Volunteer Fire Council (NVFC),

• National Fire Protection Association (NFPA),

• National Association of State Fire Marshals (NASFM),

• International Association of Arson Investigators (IAAI),

• North American Fire Training Directors (NAFTD),

• International Society of Fire Service Instructors (ISFSI),

• Congressional Fire Service Institute (CFSI).

The criteria development panel is charged with making recommendations to the grants program office regarding the creation and/or modification of program priorities as well as development of criteria and definitions as necessary.

The governing statute requires that we publish each year in the Federal Register the guidelines that describe the process for applying for grants and the criteria for awarding grants. DHS must also include an explanation of any differences between the published guidelines and the recommendations made by the criteria development panel. The guidelines and the statement on the differences between the guidelines and the criteria development panel recommendations must be published in the Federal Register prior to making any grants under the program. 15 U.S.C. 2229(b)(14).

Accordingly, DHS provides the following explanation of its decisions to modify or decline to adopt the criteria development panel's recommendations:

• In the vehicle acquisition program, DHS differed with the recommendations made by the criteria development panel for the 2006 grants to adjust the highest priorities for urban fire departments to include command vehicles. DHS has determined to keep the previously established priorities for the vehicle acquisition program in place. DHS found the recommended changes for the 2006 grants to be, at the present time, too broad and not sufficiently defined to enable the program office to effectively implement these recommendations.

• In the modifications-to-facilities category, the criteria development panel has provided DHS with a directory of initiatives that they would like DHS to consider as eligible. DHS has elected to stay with a relatively shorter list of eligible initiatives (vehicle exhaust extraction systems, sprinkler systems, smoke/fire alarm systems, and emergency generators). DHS has limited the number of initiatives to those that will provide the most protection for firefighting and emergency responders versus providing a more comfortable working environment. DHS has limited the number of eligible initiatives because any modification to a facility may need to undergo an environmental and/or historic review.

• Also under the modifications-to-facilities category, the criteria development panel recommended that the grant program fund the installation of sprinkler systems in new construction to reinforce the importance of sprinkler systems. While DHS supports this type of mitigation, the authorizing legislation does not provide for funding of new construction. Therefore, DHS did not implement this recommendation.

There were several other minor modifications that DHS made to the recommendations of the criteria development panel. These changes or modifications were presented to the panel and the panel concurred with the changes.

In making these modifications, DHS looks to the broader Administration priorities established in Homeland Security Presidential Directive 8 (HSPD 8), 39 Weekly Comp. Pres. Docs. 1822 (Dec. 17, 2003). DHS is mindful of the differences between the AFG statutory mandates and HSPD-8 priorities, such as the statutory requirement that DHS make AFG grants directly to fire departments and non-affiliated EMS organizations, as contrasted with the HSPD-8 preference for funding through the States. However, the AFG is consistent with the National Preparedness Goal called for by HSPD-8 by prioritizing investments based upon the assessment of an applicant's need and capabilities to effectively prepare for, and respond to all hazards, including terrorism threats, and a consideration of the characteristics of the community served (e.g. presence of critical infrastructure, population served, call volume) to the extent permitted by law. To the extent practical, AFG has attempted to harmonize the directions from the President and the Secretary with the requirements and limitations of the authorization and the structure of the fire service. Assets devoted to basic firefighting should complement all aspects of responding to the more complex chemical / biological / radiological / nuclear / explosive (CBRNE) threat.

Review Considerations

Fire Department Priorities

Specific rating criteria for each of the eligible programs and activities are discussed below. The funding priorities described in this Notice have been recommended by a panel of representatives from the Nation's fire service leadership and have been accepted by DHS for the purposes of implementing the AFG. These rating criteria provide an understanding of the grant program's priorities and the expected cost-effectiveness of any proposed projects.

(1) Operations and Firefighter Safety Program

(i) Training Activities. In implementing the fire service's recommendations, DHS has determined that the most benefit is derived from training that is instructor-led, hands-on, and leads to a nationally-sanctioned or State certification. Training requests that include Web-based home study or distance learning, and the purchase of training materials, equipment, or props are a lower priority. Therefore, applications focused on national or State certification training, including train-the-trainer initiatives, received a higher competitive rating. Training that (1) involves instructors, (2) requires the students to demonstrate their grasp of knowledge of the training material via testing, and (3) that is integral to a certification received a high competitive rating. Training that would lead to national certification received a higher competitive rating. Instructor-led training that does not lead to a certification, and any self-taught courses, are of lower benefit, and therefore were not afforded a high priority.

Applications were rated more highly if the proposed programs would benefit the highest percentage of applicable personnel within a fire department or if the proposed programs would be open to other departments in the region. Training that brings the department into statutory (or OSHA) compliance would provide the highest benefit relative to training that is not required, and, therefore, received the highest consideration. Training that brings a department into voluntary compliance with national standards also received a high competitive rating, but not as high as the training that brings a department into statutory compliance. Training that does not achieve statutory compliance or voluntary compliance with a national standard received a low competitive rating.

Due to the inherent differences between urban, suburban, and rural firefighting characteristics, DHS has accepted the recommendations of the criteria development panel on the different priorities in the training activity for departments that service these different types of communities. However, CBRNE awareness training has a high benefit and received the highest consideration regardless of the type of community served.

For fire departments serving rural communities, DHS has determined that funding basic, operational-level firefighting, operational-level rescue, driver training, and first-responder EMS, EMT-B, and EMT-I training (i.e., training in basic firefighting and rescue duties) has greater benefit than funding officer training, safety officer training, or incident-command training. In rural communities, after basic training, there is a greater cost-benefit ratio for officer training than for other specialized types of training such as mass casualty, HazMat, advance rescue and EMT-P, or inspector training for rural departments.

Conversely, for departments that are serving urban or suburban communities, DHS has determined that, due to the number of firefighters and the relatively-high population protected, any training requests received the highest priority regardless of the level of training requested. Training designated to enhance multi-jurisdictional capabilities was afforded a slightly higher rating.

(ii) Wellness and Fitness Activities. In implementing the criteria panel's recommendations, DHS has determined that fire departments must offer periodic health screenings, entry physical examinations, and an immunization program to have an effective wellness/fitness program. Accordingly, applicants for grants in this category must currently offer or plan to offer with grant funds all three benefits to receive funding for any other initiatives in this activity. After entry-level physicals, annual physicals, and immunizations, DHS gave high priority to formal fitness and injury prevention programs. DHS gave lower priority to stress management, injury/illness rehabilitation, and employee assistance.

DHS has determined the greatest relative benefit will be realized by supporting new wellness and fitness programs. Therefore, applicants for new wellness/fitness programs were accorded higher competitive ratings when compared with applicants lacking wellness/fitness programs and applicants that already employ a wellness/fitness program. Finally, because participation is critical to achieving any benefits from a wellness or fitness program, applications that mandate or provide incentives for participation were given higher competitive ratings.

(iii) Equipment Acquisition. As stated in the AFG authorization statute, the purpose of this grant program is to protect the health and safety of firefighters and the public from fire and fire-related hazards. As such, equipment that has a direct effect on the health and safety of either firefighters or the public received a higher competitive rating than equipment that has no such effect. Equipment that promotes interoperability with neighboring jurisdictions received additional consideration in the cost-benefit assessment if the application made it into the competitive range.

The criteria development panel recommended that this grant program will achieve the greatest benefits if the grant program provides funds to purchase firefighting, including rescue, EMS, and/or CBRNE preparedness, equipment that they have never owned prior to the grant, or to replace used or obsolete equipment. However, for the 2006 program year, departments seeking to expand into new service or mission areas received a lower competitive rating. New services or missions received a lower priority due to the risk that an applicant will not be able to financially support and sustain the new service or mission beyond the period of the grant.

Departments responding to high call volumes were afforded a higher competitive rating than departments responding to lower call volumes in similar communities. In other words, those departments that are required to respond more often received a higher competitive rating then those that respond less frequently.

The purchase of equipment that brings the department into statutory (or OSHA) compliance will provide the highest benefit and therefore received the highest consideration. The purchase of equipment that brings a department into voluntary compliance with national standards also received a high competitive rating, but not as high as for the purchase of equipment that brings a department into statutory compliance. The purchase of equipment that does not affect statutory compliance or voluntary compliance with a national standard received a lower competitive rating.

(iv) Personal Protective Equipment Acquisition. One of the stated purposes of this grant program is to protect the health and safety of firefighters and the public. To achieve this goal and maximize the benefit to the firefighting community, DHS believes that it must fund those applicants needing to provide personal protective equipment (PPE) to a high percentage of their personnel. Accordingly, a higher competitive rating in this category was given to fire departments where a larger percentage of active firefighting staff was without compliant PPE. A high competitive rating was given to departments that wish to purchase enough PPE to equip one hundred percent of their active firefighting staff, or one hundred percent of their on-duty staff, as appropriate. Also a high competitive rating was given to departments that will purchase the equipment for the first time as opposed to departments replacing obsolete or substandard equipment (e.g., equipment that does not meet current NFPA and OSHA standards), or purchasing equipment for a new mission. For those departments that are replacing obsolete or substandard equipment, the condition of the equipment to be replaced was factored into the score with a higher priority given to replacing damaged, torn, and/or contaminated equipment.

DHS only considered funding applications for personal alert safety system (PASS) devices that meet current national safety standards, i.e., integrated and/or automatic or automatic-on PASS. Finally, the number of fire response calls that a department makes in a year was considered with the higher priority going to departments with higher call volumes, while applications from departments with low call volumes were afforded lower competitive ratings. The call volume of rural departments was compared only to other rural departments; suburban departments were compared only to other suburban departments; and urban departments were compared only to other urban departments.

(v) Modifications to Fire Stations and Facilities. One statutory purpose of this grant program is to protect the health and safety of firefighters. DHS believes that more benefit is derived from modifying fire stations than by modifying fire-training facilities or other fire-related facilities. Facilities that would be open for broad usage and have a high occupancy capacity received a higher competitive rating than facilities that have limited use and/or low occupancy capacity. The frequency of use would also have a bearing on the benefits to be derived from grant funds. The frequency and duration of a facility's occupancy have a direct relationship to the benefits to be realized from funding in this activity. Modification of facilities that are occupied or otherwise in use 24-hours-per-day/seven-days-a-week received a higher competitive rating than modification of facilities used on a part-time or irregular basis.

(2) Firefighting Vehicle Acquisition Program

Due to the inherent differences between urban, suburban, and rural firefighting conventions, DHS has developed different priorities in the vehicle program for departments that service different types of communities. The following chart delineates the priorities in this program area for each type of community. Due to the competitive nature of this program and the imposed limits of funding available for this program, it is unlikely that DHS will fund many vehicles that are not listed as a Priority One or a Priority Two in the 2006 program year.

Vehicle Program Priorities
Priority | Urban communities | Suburban communities | Rural communities
Priority One | Pumper | Pumper | Pumper.
| Aerial | Aerial | Brush/Attack.
| Quint (Aerial < 76′) | Quint (Aerial < 76′) | Tanker/Tender.
| Quint (Aerial 76′ or >) | Quint (Aerial 76′ or >) | Quint (Aerial < 76′).
| Rescue | Brush/Attack
Priority Two | Command | Command | HazMat.
| HazMat | HazMat | Rescue.
| Light/Air | Rescue | Light/Air.
| Rehab | Tanker/Tender | Aerial Quint (Aerial 76′ or >.
Priority Three | Foam Truck | Foam Truck | Foam Truck.
| ARFFV | ARFFV | ARFFV.
| Brush/Attack | Rehab | Rehab.
| Tanker/Tender | Light/Air | Command.
| Ambulance | Ambulance | Ambulance.
| Fire Boat | Fire Boat | Fire Boat.

Regardless of the type of community served, DHS believes that greater benefit derives from funding fire departments that own few or no vehicles of the type requested than from funding a department with numerous vehicles of that same type. When assessing the number of vehicles a department has within a particular type, all vehicles with similar functions were included. For example, the “pumper” category includes: pumpers, engines, pumper/tankers, (with less than 1,250 gallon capacity), rescue-pumpers, quints (with aerials less than 76 feet in length), and urban interface vehicles (Type I, II or III). Pumpers with water capacity in excess of 1,250 gallons were considered a tanker/tender.

A higher competitive rating in the apparatus category was given to fire departments that own few or no firefighting vehicles relative to other departments serving similar types of communities. A higher competitive rating was given to departments that have an aged fleet of firefighting vehicles. A higher competitive rating was also given to departments that respond to a significant number of incidents relative to other departments.

DHS gave lower priority to funding departments seeking apparatus to expand into new mission or service areas due to the risk that the requesting department will not be able to support and sustain the new mission or service area beyond the grant program.

DHS assigned no competitive advantage to the purchase of standard model commercial vehicles relative to custom vehicles, or the purchase of used vehicles relative to new vehicles in the preliminary evaluation of applications. DHS has noted that, depending on the type and size of department, the technical evaluation panelists often prefer low-cost vehicles when evaluating the cost-benefit section of the project narratives. DHS also reserves the right to consider current vehicle costs within the fire service vehicle manufacturing industry when determining the level of funding that will be offered to the potential grantee, particularly if those current costs indicate that the applicant's proposed purchase costs are excessive.

Finally, due to the high demand for firefighting apparatus exhibited during prior program years and statutory limitations on the percentage of grant funds that can be used for the purchase of vehicles, DHS allowed each fire department to apply for only one vehicle during the 2006 program year. In addition, any department that had received a vehicle award from any previous AFG program year was not eligible for a second vehicle award in 2006.

(3) Administrative Costs

Panelists assessed the reasonableness of the administrative costs requested in each application and determined if it is reasonable and in the best interest of the program.

Nonaffiliated EMS Organization Priorities

DHS may make grants for the purpose of enhancing the provision of emergency medical services by nonaffiliated EMS organizations. Funding for these organizations is limited to not more than two percent of the appropriated amount. DHS has determined that it is more cost-effective to enhance or expand an existing emergency medical service organization by providing training and/or equipment than it would be to create a new service. Communities that do not currently offer emergency medical services but are turning to this grant program to initiate such a service received the lowest competitive rating. DHS does not believe creating a nonaffiliated EMS program is a substantial and sufficient benefit under the program.

Specific rating criteria and priorities for each of the grant categories are provided below following the descriptions of this year's eligible programs. The rating criteria, in conjunction with the program description, provide an understanding of the evaluation standards.

(1) EMS Operations and Safety Program

There were five different activities available for funding under this program area: EMS training, EMS equipment, EMS personal protective equipment, wellness and fitness, and modifications to facilities. Requests for equipment and training to prepare for response to incidents involving CBRNE were available under the applicable equipment and training activities.

(i) Training Activities. DHS believes that upgrading a service that currently meets a basic life support capacity to a higher level of life support creates the most benefit. Therefore, DHS gave a higher competitive rating to nonaffiliated EMS organizations that seek to upgrade from first responder to EMT-B level. Since training is a pre-requisite to the effective use of EMS equipment, organizations whose request is more focused on training activities received a higher competitive rating than organizations whose request was more focused on equipment. The second priority was to elevate emergency responders' capabilities from EMT-B to EMT-I or higher.

(ii) EMS equipment acquisition. As noted above, training received a higher competitive rating than equipment. Applications seeking assistance to purchase equipment to support the EMT-B level of service received a higher priority than requests seeking assistance to purchase equipment to support advance level EMS services. Items that were eligible but a lower priority include tents, shelters, generators, lights, and heating and cooling units.

(iii) EMS personal protective equipment. DHS gave the same priorities for EMS PPE as it did for Fire Department PPE discussed above. Acquisition of PASS devices was not funded for EMS programs.

(iv) Wellness and Fitness Activities. DHS believes that to have an effective wellness/fitness program, nonaffiliated EMS organizations must offer periodic health screenings, entry physical examinations, and an immunization program similar to the programs for fire departments discussed above. Accordingly, applicants for grants in this category must currently offer or plan to offer with grant funds all three benefits (periodic health screenings, entry physical examinations, and an immunization program) to receive funding for any other initiatives in this activity.

(v) Modification to EMS stations and facilities. DHS believes that the competitive rankings and priorities applied to modification of fire stations and facilities, discussed above, apply equally to EMS stations and facilities.

(2) EMS Vehicle Acquisition Program

DHS gave the highest funding priority to acquisition of ambulances and transport vehicles due to the inherent benefits to the community and EMS service provider. Due to the costs associated with obtaining and outfitting non-transport rescue vehicles relative to the benefits derived from such vehicles, DHS gave non-transport rescue vehicles a lower competitive rating than transport vehicles. Vehicles that have a very narrow function, such as aircraft, boats, and all-terrain vehicles, received the lowest competitive rating. DHS anticipates that the EMS vehicle awards will be very competitive due to very limited available funding. Accordingly, it is unlikely that DHS will fund any vehicles that are not listed as a “Priority One” in the 2006 program year. The following chart delineates the priorities in this program area for each type of community.

EMS Vehicle Priorities
Priority One | Priority Two | Priority Three
• Ambulance or transport unit to support EMT-B needs and functions | • First responder non-transport vehicles • Special operations vehicles. | • Helicopters/planes. • Command vehicles. • Rescue boats (over 13 feet in length). • Hovercraft. • Other special access vehicles.

DHS has not differentiated priorities in this year's EMS vehicle program for different types of communities.

Along with the priorities illustrated above, DHS has accepted the fire service recommendation that emerged from the criteria development process that funding applicants that own few or no vehicles of the type sought will be more beneficial than funding applicants that own numerous vehicles of that same type. DHS assessed the number of vehicles an applicant owns by including all vehicles of the same type. For example, transport vehicles were considered the same as ambulances. DHS gave a higher competitive rating to applicants that have an aged fleet of emergency vehicles, and to applicants with old, high-mileage vehicles. A higher competitive rating was given to applicants that respond to a significant number of incidents relative to applicants responding less often while servicing similar communities.

(3) Administrative Costs

Panelists assessed the reasonableness of the administrative costs requested in each application and determined if it is reasonable and in the best interest of the program.

Dated: August 31, 2006.
George W. Foresman,
Under Secretary for Preparedness.

[FR Doc. E6-14759 Filed 9-5-06; 8:45 am]

BILLING CODE 4410-10-P